DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Cross-Site Assessment of the Residential Treatment for Pregnant and Postpartum Women (PPW) and Their Children Program—New

The Substance Abuse and Mental Health Services Administration (SAMHSA), Center for Substance Abuse Treatment (CSAT), is funding the Services Grant Program for Residential Treatment for Pregnant and Postpartum Women (PPW). The purpose of the PPW is to expand the availability of comprehensive, high quality residential treatment services for pregnant and postpartum women who suffer from alcohol and other drug use problems, and for their infants and children impacted by the perinatal and environmental effects of maternal substance use and abuse.

Section 508 [290bb-1] (o) of the Public Health Service Act mandates the evaluation and dissemination of findings of residential treatment programs for pregnant and postpartum women. This cross-site accountability assessment will assess project activities implemented for these services.

With input from multiple experts in the field of women and children's treatment programs, projects selected by consensus a common core of data collection instruments that will be used for program and treatment planning, local evaluations, and for this cross-site accountability evaluation. For mothers, five different interview instruments will be used: (1) Child Data Collection Tool, Part 1 (personal background) and Part 2 (infant and child background); (2) Child Well-Being Scale (brief observation of mother/child interaction); (3) Quality of Life survey; (4) BASIS 32 (behavioral health assessment); and (5) Allen's Barriers to Treatment. For children of all ages, program staff will collect information from observation, interview, and records review. Children's data collection tools include: (1) Child Well-Being Scales (all children), (2) Denver Developmental Screening Inventory II (ages 1m-6y), (3) Middle Childhood Developmental Chart (ages 7 to 10), (4) Adolescent Development Chart (ages 11 to 17), and (5) the CRAFFT substance abuse screening instrument (ages 11-17). Additional records review will be conducted by program staff on all program participants at discharge.

All data will be collected using a combination of observation, records review, and computer-based personal interviews. CSAT will use this data for this evaluation to influence public policy, research, and programming as they relate to the provision of women's services. Data produced by this study will provide direction to the type of technical assistance that will be required by service providers of women's programming. In addition, the data will be used by individual grantees to support progress report efforts.

The following is the estimated annual response burden for this collection.

Form name | Respondent | Estimated number of respondents | Number of responses per respondent | Total responses | Average hours per response | Total hour burden
Women Interviews by Staff:
Child Data Collection Tool | Mother | 414 | 3.23 | 1,337 | .83 | 1,110
Child Well-Being Scale # 24 | Mother | 414 | 4 | 1,656 | .03 | 50
Allen's Barriers to Treatment | Mother | 414 | 3 | 1,242 | .33 | 410
Quality of Life | Mother | 414 | 3 | 1,242 | .50 | 621
BASIS 32 | Mother | 414 | 3 | 1,242 | .25 | 311
Total for Women: |  | 414 |  | 6,719 |  | 2,502
Child Interviews/Observations by Staff:
Child Well-Being Scales (age 0-17) | Child observation and records | 924 | 4 | 3,696 | .33 | 1,220
Denver Developmental Screening Inventory II (ages 1m-6y) | Child interview and observation | 462 | 3 | 1,386 | .33 | 457
CRAFFT (ages 11-17) | Child interview | 294 | 3 | 882 | .08 | 71
Middle Childhood Developmental Chart (ages 7 to 10) | Child interview | 168 | 3 | 504 | .33 | 166
Adolescent Development Chart (ages 11 to 17) | Child interview | 294 | 3 | 882 | .33 | 291
Total for Children/Staff: |  | 924 |  | 7,350 |  | 2,205
Records Review by Staff:
Women's Discharge Tool | Records review | 414 | 1 | 414 | .25 | 104
Children's Discharge Tool | Records review | 924 | 1 | 924 | .25 | 231
Total for Staff: |  | 1,338 |  | 1,338 |  | 335
3-Year Total |  | 1,338 |  | 15,407 |  | 5,042
3 Year Average Annual |  | 446 |  | 5,136 |  | 1,681

Note: For mothers, administration of data collection instruments will occur at: (1) Admission to treatment, (2) 6 months post-admission, and (3) 12 months post-admission. For the Child Data Collection Tool, each mother will respond for herself and each of her estimated 2.23 children. For infants and children, data collection will occur: (1) Within 30 days of birth or admission, (2) at 3 months post-admission, and (3) at 6 months post-admission. The appropriate Child Well-Being Scales will be administered four times over the course of treatment: (1) Within 30 days of admission, (2) 3 months post-admission, (3) 6 months post-admission, and (4) 12 months post-admission.

Send comments to Summer King, SAMHSA Reports Clearance Officer, Room 7-1045, 1 Choke Cherry Road, Rockville, MD 20850. Written comments should be received by January 3, 2005.

Dated: October 25, 2004.
Anna Marsh,
Executive Officer, SAMHSA.

[FR Doc. 04-24516 Filed 11-2-04; 8:45 am]

BILLING CODE 4162-20-P